DEPARTMENT OF COMMERCE

National Oceanic and Atmospheric Administration

50 CFR Part 622

[RTID 0648-XE986; Docket No. 240506-0129]

2025 Recreational Harvest Closure for Gulf Gag

AGENCY: National Marine Fisheries Service (NMFS), National Oceanic and Atmospheric Administration (NOAA), Commerce.

ACTION: Temporary rule; closure.

SUMMARY: NMFS implements an accountability measure (AM) for the gag recreational sector in the exclusive economic zone (EEZ) of the Gulf for the 2025 fishing year. NMFS has projected that the 2025 recreational annual catch target (ACT) for gag will be reached by September 15, 2025. Therefore, NMFS closes the recreational sector for Gulf gag on September 15, 2025, and it will remain closed through the end of the fishing year on December 31, 2025. This closure is necessary to protect the Gulf gag resource.

DATES: This temporary rule is effective from 12:01 a.m. local time on September 15, 2025, through December 31, 2025.

FOR FURTHER INFORMATION CONTACT: Frank Helies, NMFS Southeast Regional Office, 727-824-5305, frank.helies@noaa.gov.

SUPPLEMENTARY INFORMATION: NMFS manages the Gulf reef fish fishery that includes gag under the Fishery Management Plan for the Reef Fish Resources of the Gulf (FMP). The Gulf Council (Council) prepared the FMP, which was approved by the Secretary of Commerce, and NMFS implements the FMP under the authority of the Magnuson-Stevens Fishery Conservation and Management Act (Magnuson-Stevens Act) through regulations at 50 CFR part 622. All weights described in this temporary rule are in gutted weight.

On June 1, 2024, NMFS implemented a final rule for Amendment 56 to the FMP that modified management of gag in the Gulf EEZ (89 FR 40419, May 10, 2024). For gag, that final rule revised the commercial and recreational catch levels, the recreational AMs, and the recreational fishing season. For the recreational sector, the unadjusted recreational annual catch limit (ACL) for 2025 is 399,000 pounds (lb)(180,983 kilograms (kg)), and the recreational ACT is 319,000 lb (144,696 kg) (50 CFR 622.41(d)(2)(i)).

The recreational AM states that if recreational landings reach or are projected to reach the applicable recreational ACT, then NMFS will close the recreational sector for the remainder of the fishing year (50 CFR 622.41(d)(2)(ii)). The recreational AMs also state that if NMFS estimates that gag recreational landings have exceeded the applicable recreational ACL and gag is overfished, then in the following fishing year, the recreational ACL and recreational ACT will be reduced by the amount of the recreational ACL overage in the prior fishing year unless the best scientific information available determines that greater, lesser, or no overage adjustment is necessary (50 CFR 622.41(d)(2)(iii)). The final rule also implemented a seasonal closure of the gag recreational sector to prohibit harvest annually from January 1 through August 31 in the Gulf EEZ (50 CFR 622.34(e)).

In the 2024 fishing year, in accordance with the recreational AM at 50 CFR 622.41(d)(2)(iii), NMFS reduced the recreational ACL and ACT for the 2024 fishing year based on an overage of the recreational ACL during the 2023 fishing year (89 FR 53883, June 28, 2024). For the 2024 fishing year, the resulting adjusted recreational ACL was 163,376 lb (74,106 kg) and the adjusted recreational ACT was 105,376 lb (47,798 kg). NMFS has determined that in 2024, recreational landings exceeded the 2024 adjusted ACL by 88,891 lb (40,320 kg). Therefore, for the 2025 fishing year, the adjusted recreational ACL is 310,009 lb (140,618 kg) and the adjusted recreational ACT is 230,009 lb (104,330 kg).

The 2025 recreational fishing season opens on September 1, and NMFS projects that the 2025 adjusted recreational ACT for Gulf will be reached as of September 15, 2025. This closure date was informed by a review of 2022-2024 landings data derived from multiple sources including Marine Recreational Information Program charter data, Texas, Parks and Wildlife and Louisiana Creel surveys, the Southeast Region Headboat Survey, and Florida's State Reef Fish Survey. This information generated closure dates ranging from September 14, 2025, to September 26, 2025. To decrease the likelihood of another recreational ACL overage in 2025 and required reduction to the recreational ACL and ACT in 2026, NMFS is acting conservatively and implementing a September 15 closure date. Accordingly, this temporary rule closes the recreational sector for Gulf gag effective at 12:01 a.m., local time, on September 15, 2025, through the end of the fishing year on December 31, 2025.

During the recreational closure, the bag and possession limits of gag in or from the Gulf EEZ are zero. The prohibition on possession of gag also applies in state waters of the Gulf for any vessel issued a valid Federal charter vessel/headboat permit for Gulf reef fish.

Classification

NMFS issues this action pursuant to section 305(d) of the Magnuson-Stevens Act. This action is required by 50 CFR 622.41(d)(2)(ii) and (iii), which were issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the regulations associated with the closure of recreational harvest of gag at 50 CFR 622.41(d)(2)(ii) and the reduction of the gag recreational ACL and ACT at 50 CFR 622.41(d)(2)(iii) have already been subject to notice and public comment, and all that remains is to notify the public of the closure based on the adjusted ACT. Prior notice and opportunity for public comment are contrary to the public interest. Prior notice and opportunity for public comment would require time and those affected by the length of the recreational fishing seasons, particularly for-hire operations that book trips for clients in advance, need as much notice as NMFS is able to provide to adjust their business plans to account for changes to the recreational fishing season.

Authority: 16 U.S.C. 1801 et seq.

Dated: July 9, 2025.
Kelly Denit,
Director, Office of Sustainable Fisheries, National Marine Fisheries Service.

[FR Doc. 2025-13012 Filed 7-9-25; 4:15 pm]

BILLING CODE 3510-22-P